ENVIRONMENTAL PROTECTION AGENCY

[FRL-6983-1]

Clean Water Act Section 303(d): Final Agency Action on 11 Total Maximum Daily Loads (TMDLs) and Final Agency Action on 26 Determinations That TMDLs Are Not Needed

AGENCY: Environmental Protection Agency (EPA).

ACTION: Notice of availability.

SUMMARY: This notice announces final agency action on 11 TMDLs prepared by EPA Region 6 for waters listed in Louisiana's Mermentau and Vermilion/Teche river basins, under section 303(d) of the Clean Water Act (CWA). This notice also announces final agency action removing 26 waterbody/pollutant combinations from the Louisiana 303(d) list because new data/information shows that water quality standards are being met. EPA evaluated these waters and prepared the 11 TMDLs in response to a Court Order dated October 1, 1999, in the lawsuit Sierra Club, et al. v. Clifford et al., No. 96-0527, (E.D. La.). Under this court order, EPA is required to prepare TMDLs when needed for waters on the Louisiana 1998 section 303(d) list by December 31, 2007. EPA is also required to add or delete waters to the schedule as new data confirms that waters are or are not meeting water quality standards. Documents from the administrative record files for the 26 determinations that TMDLs are not needed and for the final 11 TMDLs, including TMDL calculations and responses to comments, may be viewed at www.epa.gov/region6/water/tmdl.htm. The administrative record files may be obtained by calling or writing Ms. Caldwell at the above address. Please contact Ms. Caldwell to schedule an inspection.

FOR FURTHER INFORMATION CONTACT: Ellen Caldwell at (214) 665-7513.

SUPPLEMENTARY INFORMATION: In 1996, two Louisiana environmental groups, the Sierra Club and Louisiana Environmental Action Network (plaintiffs), filed a lawsuit in Federal Court against the United States Environmental Protection Agency (EPA), styled Sierra Club, et al. v. Clifford et al., No. 96-0527, (E.D. La.). Among other claims, plaintiffs alleged that EPA failed to establish Louisiana TMDLs in a timely manner. Discussion of the court order may be found at 65 FR 54032 (September 6, 2000).

EPA Takes Final Agency Action on 11 TMDLs

By this notice EPA is taking a final agency action on the following 2 fecal coliform TMDLs for waters located within the Mermentau and Vermilion/Teche basins:

A TMDL for subsegment 060205 (Bayou Teche) was written and included in the same TMDL written for subsegments 060301 (of Bayou Teche) and 060401 (also of Bayou Teche) as referenced at 65 FR 19762-19764 of the Federal Register published on April 12, 2000 as well as 66 FR 18087-18089 of the Federal Register published on April 5, 2001. However, as no explicit reference was given to subsegment 060205 in either of the aforementioned notices, this notice is to serve as notice that the TMDL is inclusive of subsegment 060205. As cited in the Federal Register notices described above, the TMDL written for subsegment 060205, as well as subsegments 060301 and 060401, may be viewed at www.epa.gov/region6/water/tmdl.htm (click on “Finalized TMDL Reports * * *”).

A TMDL for subsegment 050303 (Bayou Castor) was written and included in the same TMDL written for subsegment 050301 (Bayou Nezpique) as referenced at 65 FR 19762-19764 of the Federal Register published April 12, 2000 as well as 65 FR 18087-18089 of the Federal Register published April 5, 2001. However, as no explicit reference was given to subsegment 050303 in either of the aforementioned notices, this notice is to serve as notice that the TMDL is inclusive of subsegment 050303. As cited in the Federal Register notices described above, the TMDL written for subsegment 050303, as well as subsegment 050301, may be viewed at www.epa.gov/region6/water/tmdl.htm (click on “Finalized TMDL Reports * * *).

As comment on these TMDLs has already been requested previously, no further comment is requested.

Also by this notice EPA is taking a final agency action on the following 9 TMDLs for waters located within the Mermentau and Vermilion/Teche basins:

Subsegment | Waterbody name | Pollutant
050703 | White Lake | Total Dissolved Solids.
050703 | White Lake | Chloride.
060801 | Vermilion River—Headwaters To Bayou Fusilier Bourbeaux Junction to New Flanders | Sulfate.
060802 | Vermilion River—From New Flanders to Intracoastal Waterway | Sulfate.
060205 | Bayou Teche—Headwaters at Bayou Courtableau to I-10 | Sulfate.
060205 | Bayou Teche—Headwaters at Bayou Courtableau to I-10 | Chloride.
060201 | Bayou Cocodrie-from U.S. Hwy 167 to the Bayou Boeuf-Cocodrie Diversion Canal (Scenic) | Total Dissolved Solids.
060206 | Indian Creek Reservoir | Temperature.
060202 | Bayou Cocodrie-Cocodrie Diversion Canal to its intersection with Bayou Boeuf | Total Dissolved Solids.

EPA requested the public to provide EPA with any significant data or information that may impact the 9 TMDLs at 65 FR 67742 (November 13, 2000). The comments received and EPA's response to comments may be found at www.epa.gov/region6/water/tmdl.htm.

Final Agency Action Removing 26 Waterbody/Pollutants from the Louisiana 303(d) List Because TMDLs Are Not Necessary
Subsegment | Waterbody description | Pollutant | Reason for delisting
050101 | Bayou Des Cannes—Headwaters to Mermentau River | Oil & Grease | Assessment of new data and information shows it is meeting WQS.
050103 | Bayou Mallet | Oil & Grease | Assessment of new data and information shows it is meeting WQS.
050201 | Bayou Plaquemine Brule-Headwaters to Bayou Des Cannes | Oil & Grease | Assessment of new data and information shows it is meeting WQS.
050901 | Mermentau River Basin Coastal | Oil & Grease | Assessment of new data and information shows it is meeting WQS.
060802 | Vermilion River—from New Flanders (Ambassador Caffery) Bridge at Hwy 3073 to Intracoastal Waterway | Oil & Grease | Assessment of new data and information shows it is meeting WQS.
060904 | Vermilion River—B890 Basin New Iberia Southern Drainage Canal | Oil & Grease | Assessment of new data and information shows it is meeting WQS.
060907 | Franklin Canal | Oil & Grease | Assessment of new data and information shows it is meeting WQS.
061101 | Bayou Petite Anse | Oil & Grease | Assessment of new data and information shows it is meeting WQS.
060804 | Intracoastal Waterway | Oil & Grease | Assessment of new data and information shows it is meeting WQS.
060901 | Bayou Petite Anse | Oil & Grease | Assessment of new data and information shows it is meeting WQS.
050402 | Lake Arthur and Lower Mermentau | Oil & Grease | Assessment of new data and information shows it is meeting WQS.
050602 | Intracoastal Waterway | Oil & Grease | Assessment of new data and information shows it is meeting WQS.
050701 | Grand Lake | Oil & Grease | Assessment of new data and information shows it is meeting WQS.
050702 | Intracoastal Waterway | Oil & Grease | Assessment of new data and information shows it is meeting WQS.
050703 | White Lake | Oil & Grease | Assessment of new data and information shows it is meeting WQS.
060205 | Bayou Teche—Headwaters at Bayou Courtableau to I-10 | Oil & Grease | Assessment of new data and information shows it is meeting WQS.
060212 | Chatlin Lake Canal and Bayou DuLac | Oil & Grease | Assessment of new data and information shows it is meeting WQS.
060701 | Tete Bayou | Oil & Grease | Assessment of new data and information shows it is meeting WQS.
060702 | Lake Fausse Point and Dauterive Lake | Oil & Grease | Assessment of new data and information shows it is meeting WQS.
060906 | Intracoastal Waterway | Oil & Grease | Assessment of new data and information shows it is meeting WQS.
060910 | Boston Canal and Associated Canals (Estuarine) | Oil & Grease | Assessment of new data and information shows it is meeting WQS.
061103 | Freshwater Bayou Canal | Oil & Grease | Assessment of new data and information shows it is meeting WQS.
050501 | Bayou Queue de Tortue—Headwaters to Mermentau River | Oil & Grease | Assessment of new data and information shows it is meeting WQS.
060902 | Bayou Carlin (Delcambre Canal)—Lake Peigneur To Bayou Petite Anse (Estuarine) | Oil & Grease | Assessment of new data and information shows it is meeting WQS.
060803 | Vermilion River Cutoff | Oil & Grease | Assessment of new data and information shows it is meeting WQS.
061102 | Intracoastal Waterway | Oil & Grease | Assessment of new data and information shows it is meeting WQS.

EPA requested the public to provide to EPA any significant data or information that may impact the determination that 26 TMDLs are not necessary at 66 FR 15472 (March 19, 2001). No comments were received.

Dated: May 3, 2001.
Sam Becker,
Acting Director, Water Quality Protection Division, Region 6.

[FR Doc. 01-12886 Filed 5-22-01; 8:45 am]

BILLING CODE 6560-50-P